DEPARTMENT OF COMMERCE

Foreign-Trade Zones Board

[S-35-2019]

Foreign-Trade Zone 123—Denver, Colorado Application for Subzone, Lexmark International, Inc., Longmont, Colorado

An application has been submitted to the Foreign-Trade Zones Board (the Board) by the City and County of Denver, Colorado, grantee of FTZ 123, requesting subzone status for the facility of Lexmark International, Inc., located in Longmont, Colorado. The application was submitted pursuant to the provisions of the Foreign-Trade Zones Act, as amended (19 U.S.C. 81a-81u), and the regulations of the Board (15 CFR part 400). It was formally docketed on March 7, 2019.

The proposed subzone (26.09 acres) is located at 6555 Monarch Road, Longmont, Colorado. A notification of proposed production activity has been submitted and will be published separately for public comment. The proposed subzone would be subject to the existing activation limit of FTZ 123.

In accordance with the Board's regulations, Christopher Kemp of the FTZ Staff is designated examiner to review the application and make recommendations to the Executive Secretary.

Public comment is invited from interested parties. Submissions shall be addressed to the Board's Executive Secretary at the address below. The closing period for their receipt is April 22, 2019. Rebuttal comments in response to material submitted during the foregoing period may be submitted during the subsequent 15-day period to May 7, 2019.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher J. Kemp at Christopher.Kemp@trade.gov or (202) 482-0862.

Dated: March 7, 2019.
Andrew McGilvray,
Executive Secretary.

[FR Doc. 2019-04630 Filed 3-12-19; 8:45 am]

BILLING CODE 3510-DS-P